DEPARTMENT OF ENERGY

Federal Energy Regulatory Commission

[Docket No. ER03-510-005, et al.]

Delta Energy Center, LLC, et al.; Electric Rate and Corporate Filings

February 1, 2005.

The following filings have been made with the Commission. The filings are listed in ascending order within each docket classification.

1. Delta Energy Center, LLC

[Docket No. ER03-510-005]

Take notice that on January 27, 2005, Delta Energy Center, LLC (Delta) submitted a substitute revised rate schedule sheet to Delta Energy Center, LLC Rate Schedule FERC No. 2 to modify the effective date of the rate change proposed in Delta's December 30, 2004, filing in Docket No. ER03-510-004.

Delta states that copies of the filing were served upon the official service list for this proceeding.

Comment Date: 5 p.m. eastern time on February 8, 2005.

2. Midwest Independent Transmission System Operator, Inc.; American Transmission Company LLC

[Docket No. ER04-1160-002]

Take notice that on January 28, 2005, the Midwest Independent Transmission System Operator, Inc. (Midwest ISO) and American Transmission Company, LLC (collectively, Applicants) submitted additional information to their August 30, 2004, filing regarding proposed changes to the liability limitation provisions in the Midwest ISO's Open Access Transmission Tariff. Applicants state that the additional information was filed in response to the Commission's January 21, 2005, deficiency letter.

The Midwest ISO states that it has electronically served a copy of this filing, with attachments, upon all Midwest ISO members, member representatives of Transmission Owners and Non-Transmission Owners, the Midwest ISO Advisory Committee participants, as well as all states commissions within the region. In addition, Midwest ISO states that the filing has been electronically posted on the Midwest ISO's Web site at http://www.midwestiso.org. under the heading “Filings to FERC” for other interested parties in this matter. The Midwest ISO indicates that it will provide hard copies to any interested parties upon request.

Comment Date: 5 p.m. eastern time on February 7, 2005.

3. Midwest Independent Transmission System Operator, Inc., Public Utilities With Grandfathered Agreements in the Midwest ISO Region, Midwest Independent Transmission System Operator, Inc., Midwest Independent Transmission System Operator, Inc., Midwest Independent Transmission System Operator, Inc.

[Docket Nos. ER04-691-021, EL04-104-020, ER03-1312-006, ER02-2595-008, and ER04-375-018]

Take notice that on January 28, 2005, the Midwest Independent Transmission System Operator, Inc. (Midwest ISO) submitted a filing informing the Commission of changes in planned market implementation dates and a motion for leave to change the effective dates of certain portions of its open access transmission and energy markets tariff to be consistent with an April 1, 2005, initiation of financially binding real-time market operations.

The Midwest ISO states that it has electronically served a copy of this filing, with attachments, upon all Midwest ISO members, member representatives of Transmission Owners and Non-Transmission Owners, the Midwest ISO Advisory Committee participants, as well as all states commissions within the region. In addition, Midwest ISO states that the filing has been electronically posted on the Midwest ISO's website at http://www.midwestiso.org. under the heading “Filings to FERC” for other interested parties in this matter. The Midwest ISO indicates that it will provide hard copies to any interested parties upon request.

Comment Date: 5 p.m. eastern time on February 8, 2005.

4. PJM Interconnection, L.L.C.

[Docket No. ER05-120-001]

Take notice that on January 27, 2005, PJM Interconnection, L.L.C. (PJM) submitted a compliance filing pursuant to the Commission's order issued December 28, 2004, in PJM Interconnection, L.L.C., 109 FERC ¶ 61,366 (2004).

PJM states that copies of this filing have been served on all PJM members and the utility regulatory commissions in the PJM region.

Comment Date: 5 p.m. eastern time on February 17, 2005.

5. Xcel Energy Services Inc.

[Docket No. ER05-499-000]

Take notice that on January 27, 2005, Xcel Energy Services Inc. (XES) tendered for filing an the amended agreement for interconnection service between Southwestern Public Service Company and Llano Estacado Wind, LP. XES requests an effective date of December 19, 2001.

Comment Date: 5 p.m. eastern time on February 17, 2005.

6. New England Power Company

[Docket No. ER05-500-000]

Take notice that on January 27, 2005, New England Power Company (NEP) submitted for filing Second Revised Service Agreement No. 214 between NEP and Lake Road Generating Company, L.P. under NEP's open access transmission tariff, New England Power Company, FERC Electric Tariff, Second Revised Volume No. 9.

Comment Date: 5 p.m. eastern time on February 17, 2005.

7. Goose Haven Energy Center, LLC

[Docket No. ER05-501-000]

Take notice that on January 27, 2005, Goose Haven Energy Center, LLC (Goose Haven) submitted a revised rate schedule sheet for the Reliability Must-Run Service Agreement between Goose Haven and the California Independent System Operator Corporation.

Goose Haven states that copies of the filing were served upon the California Independent System Operator Corporation, the California Public Utilities Commission, the California Electricity Oversight Board and Pacific Gas and Electric Company.

Comment Date: 5 p.m. eastern time on February 17, 2005.

8. Creed Energy Center, LLC

[Docket No. ER05-502-000]

Take notice that on January 27, 2005, Creed Energy Center, LLC (Creed) submitted a revised rate schedule sheet for the Reliability Must-Run Service Agreement between Creed and the California Independent System Operator Corporation.

Creed states that copies of the filing were served upon the California Independent System Operator Corporation, the California Public Utilities Commission, the California Electricity Oversight Board and Pacific Gas and Electric Company.

Comment Date: 5 p.m. eastern time on February 17, 2005.

9. Los Esteros Critical Energy Facility, LLC

[Docket No. ER05-503-000]

Take notice that on January 27, 2005, Los Esteros Critical Energy Facility, LLC (LECEF) submitted a revised rate schedule sheet for the Reliability Must-Run Service Agreement between LECEF and the California Independent System Operator Corporation.

LECEF states that copies of the filing were served upon the California Independent System Operator Corporation, the California Public Utilities Commission, the California Electricity Oversight Board and Pacific Gas and Electric Company.

Comment Date: 5 p.m. eastern time on February 17, 2005.

10. Gilroy Energy Center, LLC

[Docket No. ER05-504-000]

Take notice that on January 27, 2005, Gilroy Energy Center, LLC (Gilroy) submitted a revised rate schedule sheet for the Reliability Must-Run Service Agreement between Gilroy and the California Independent System Operator Corporation.

Gilroy states that copies of the filing were served upon the California Independent System Operator Corporation, the California Public Utilities Commission, the California Electricity Oversight Board and Pacific Gas and Electric Company.

Comment Date: 5 p.m. eastern time on February 17, 2005.

11. PacifiCorp

[Docket No. ER05-505-000]

Take notice that on January 28, 2005, PacifiCorp tendered for filing a Network Integration Transmission Service Agreement between Sempra Energy Solutions (Sempra) and PacifiCorp under PacifiCorp's open access transmission tariff, FERC Electric Tariff, Fifth Revised Volume No. 11, Service Agreement No. 299.

PacifiCorp states that copies of this filing were supplied to the Public Utility Commission of Oregon, the Washington Utilities and Transportation Commission, and Sempra.

Comment Date: 5 p.m. eastern time on February 18, 2005.

12. New England Power Pool and ISO New England Inc.

[Docket No. ER05-508-000]

Take notice that on January 28, 2005, the New England Power Pool (NEPOOL) Participants Committee and ISO New England Inc. (the ISO) filed for acceptance a new Appendix H to NEPOOL Market Rule 1, and a corresponding Appendix H to section III of the ISO's Transmission, Markets and Services Tariff which includes special provisions relating to the dispatch and operation of the New England bulk power system during extreme cold weather conditions.

The NEPOOL Participants Committee states that copies of these materials were sent to the NEPOOL Participants and the New England state governors and regulatory commissions.

Comment Date: 5 p.m. eastern time on February 9, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-510 Filed 2-7-05; 8:45 am]

BILLING CODE 6717-01-P